DEPARTMENT OF THE INTERIOR

National Park Service

[NPS-WASO-NAGPRA-16663]

Notice of Inventory Completion: Tennessee Valley Authority and the University of Tennessee McClung Museum, Knoxville, TN

AGENCY: National Park Service, Interior.

ACTION: Notice.

SUMMARY: The Tennessee Valley Authority (TVA) and the University of Tennessee McClung Museum (McClung Museum) have completed an inventory of human remains, in consultation with the appropriate Federally recognized Indian tribes, and have determined that there is a cultural affiliation between the human remains and a present-day Federally recognized Indian tribe. Lineal descendants or representatives of any Federally recognized Indian tribe not identified in this notice that wish to request transfer of control of these human remains should submit a written request to TVA. If no additional requestors come forward, transfer of control of the human remains to the Federally recognized Indian tribe stated in this notice may proceed.

DATES: Lineal descendants or representatives of any Federally recognized Indian tribe not identified in this notice that wish to request transfer of control of these human remains should submit a written request with information in support of the request to TVA at the address in this notice by November 17, 2014.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains under the control of TVA and in the custody of the McClung Museum. The human remains were removed from the Westmoreland-Barber site in Marion County, TN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by TVA and McClung Museum professional staff in consultation with the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma.

History and Description of the Remains

In the summer of 1965, human remains were removed from burial unit 8 at the Westmoreland-Barber site, 40MI11, in Marion County, TN. The Westmoreland-Barber site is located at river mile 429 on the Tennessee River. Archeological excavations at Westmoreland-Barber were stimulated by the TVA's construction of the Nickajack Dam and the impending inundation of the resulting reservoir. In August 1964, the University of Tennessee (UT) under the direction of J.B. Graham and under contract with the National Park Service (NPS), excavated sites located within the confines of the proposed Nickajack Reservoir, including site 40MI11. A second season of excavations by UT took place from June 29 to August 18, 1965, at the Westmoreland-Barber site, under a contract with the NPS. The excavation of burial units 5 through 17 took place after the TVA completed the process of purchasing the land tracts where the burial units are located.

One historic burial, burial unit 8, was excavated during the second season. Although disturbed by agricultural plowing, UT archeologists concluded at the time that the individual in the burial was laid to rest around 1775, and the remains were likely associated with the historically known 18th century Cherokee Lower Town occupation in this area. The human remains from burial unit 8 represent one adult male. No known individuals were identified.

Determinations Made by the TVA and the McClung Museum

Officials of TVA and the McClung Museum have determined that:

• Pursuant to 25 U.S.C. 3001(9), the human remains described in this notice represent the physical remains of one individual of Native American ancestry.

• Pursuant to 25 U.S.C. 3001(2), there is a relationship of shared group identity that can be reasonably traced between the Native American human remains and the Cherokee Nation of Oklahoma; Eastern Band of Cherokee Indians of North Carolina; and the United Keetowah Band of Cherokee Indians in Oklahoma.

Additional Requestors and Disposition

Lineal descendants or representatives of any Federally recognized Indian tribe not identified in this notice that wish to request transfer of control of these human remains should submit a written request with information in support of the request to Dr. Thomas O. Maher, TVA, 400 West Summit Hill Drive, WT11D, Knoxville, TN 37902-1401, telephone (865) 632-7458, email tomaher@tva.gov, by November 17, 2014. After that date, if no additional requestors have come forward, transfer of control of the human remains to the Cherokee Nation of Oklahoma; Eastern Band of Cherokee Indians of North Carolina; and the United Keetowah Band of Cherokee Indians in Oklahoma may proceed.

TVA is responsible for notifying the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Shawnee Tribe; The Chickasaw Nation; The Muscogee (Creek) Nation; The Seminole Nation of Oklahoma; Thlopthlocco Tribal Town; and the United Keetoowah Band of Cherokee Indians in Oklahoma, that this notice has been published.

Dated: September 10, 2014.
Sherry Hutt,
Manager, National NAGPRA Program.

[FR Doc. 2014-24522 Filed 10-15-14; 8:45 am]

BILLING CODE 4310-50-P